NUCLEAR REGULATORY COMMISSION

[Docket No. 50-320; License No. DPR-73; NRC-2010-0358]

FirstEnergy Nuclear Operating Company; Notice of Issuance of Director's Decision

Notice is hereby given that the Director, Office of Federal and State Materials and Environmental Management Programs (FSME), has issued a Director's Decision with regard to a petition dated September 30, 2010, filed by Eric J. Epstein, hereinafter referred to as the “Petitioner.” The petition was supplemented during an October 19, 2010, Petition Review Board (PRB) meeting, via teleconference, with the Petitioner and FirstEnergy Corporation, hereinafter referred to as FENOC. [NOTE: GPU Nuclear is the license holder for Three Mile Island, Unit 2 (TMI-2).] The transcript of this teleconference is available in the Agencywide Documents Access and Management System (ADAMS No. ML103120216). The petition concerns the decommissioning funding for TMI-2.

The petition requested that the U.S. Nuclear Regulatory Commission (NRC) take enforcement action in the form of a Demand for Information from FENOC relating to inadequate financial assurance provided by the licensee for TMI-2's nuclear decommissioning fund.

As the basis for the September 30, 2010, request, the Petitioner states that the current radiological decommissioning cost estimate is $831.5 million and the current amount in the decommissioning trust fund is $484.5 million, as of December 31, 2008. Further, the Petitioner states that FENOC's decommissioning report is inadequate, and fails to account for the special status of TMI-2, the current level of underfunding, or the fact that decommissioning rate recovery for Metropolitan Edison and Pennsylvania Electric ceases per Pennsylvania Public Utility Commission Orders on December 31, 2010.

On October 19, 2010, the Petitioner and licensee met with the staff's PRB via teleconference. The meeting gave the Petitioner and the licensee an opportunity to provide additional information and to clarify issues identified in the petition.

The NRC sent a copy of the proposed Director's Decision to the Petitioner and to the licensee for comment on April 5, 2011 (ADAMS Nos. ML110680183 and ML110940183). The Petitioner responded with comments on May 1, 2011 (ADAMS No. ML111260128) and the licensee responded on April 18, 2011 (ADAMS No. ML11116A073). Comments submitted by the Petitioner and licensee, and the NRC staff responses, are discussed in the attachment to the Director's Decision.

The Director of FSME has determined that the request for NRC to demand information relating to inadequate financial assurance provided by the licensee for TMI-2's nuclear decommissioning fund, be denied. The request is denied because the updated decommissioning funding status report submitted by GPU Nuclear on March 29, 2010, for TMI-2, which is the latest site-specific decommissioning funding plan, provides adequate decommissioning funding assurance in accordance with NRC regulations. GPU Nuclear is owned by FENOC. A complete discussion of the reasons for this decision are explained in the Director's Decision pursuant to 10 CFR 2.206 (DD-11-04), the complete text of which is available in ADAMS for inspection at the Commission's Public Document Room, located at One White Flint, 11555 Rockville Pike (first floor), Rockville, Maryland 20852, and from the ADAMS Public Library component on the NRC's Web site, http://www.nrc.gov (the public Electronic Reading Room).

As provided in 10 CFR 2.206(c), a copy of this Director's Decision will be filed with the Secretary of the Commission for the Commission to review. As provided for by this regulation, the Decision will constitute the final action of the Commission 25 days after the date of the Decision unless the Commission, on its own motion, institutes a review of the Decision within that time.

Dated at Rockville, Maryland, this 2nd day of June 2011.
For the Nuclear Regulatory Commission.
Scott W. Moore,
Acting Director, Office of Federal and State Materials and Environmental Management Programs.

[FR Doc. 2011-14424 Filed 6-9-11; 8:45 am]

BILLING CODE 7590-01-P